DEPARTMENT OF TRANSPORTATION

Federal Railroad Administration

[Docket Numbers FRA-2003-14565 and FRA-2006-24216]

Petition for Waiver of Compliance

In accordance with part 211 of Title 49 of the Code of Federal Regulations (CFR), this document provides the public notice that by a document dated October 12, 2010, the Sacramento Regional Transit District (SRTD) has petitioned the Federal Railroad Administration (FRA) for a waiver of compliance from certain provisions of the Federal railroad safety regulations contained at 49 CFR 229.125 (Headlights and auxiliary lights) and 234.105(c)(3) (Activation failure flagging). FRA assigned the petitions Docket Numbers FRA-2003-14565 and FRA-2006-24216.

By letters dated October 12, 2010, and February 24, 2011, SRTD has petitioned FRA to extend the terms and conditions of the shared use waivers applicable to portions of its light rail Blue and Gold Lines that share corridors, including highway-rail grade crossings, with the Union Pacific Railroad. The relief granted in Docket Number FRA-2003-14565 was granted to SRTD in September of 2003, and by its terms expired in 2008. SRTD, however, failed to seek an extension of this relief until the filing of its October 12, 2010, petition.

For administrative purposes, FRA is closing Docket Number FRA-2003-14565 and consolidating both of SRTD's applicable requests for relief into Docket Number FRA-2006-24216. A copy of SRTD's October 12, 2010, petition, as well as any written communications concerning the petition, is available for review online at http://www.regulations.gov and in person at the Department of Transportation's Docket Operations Facility, 1200 New Jersey Ave., SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received by August 1, 2011 will be considered by FRA. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC on June 23, 2011.
Robert C. Lauby,
Deputy Associate Administrator for Regulatory & Legislative Operations.

[FR Doc. 2011-16413 Filed 6-29-11; 8:45 am]

BILLING CODE 4910-06-P